DEPARTMENT OF EDUCATION

President's Advisory Commission on Asian Americans and Pacific Islanders; Notice of an Open Meeting

AGENCY: President's Advisory Commission on Asian Americans and Pacific Islanders, U.S. Department of Education.

ACTION: Notice of an open meeting.

SUMMARY: This notice sets forth the schedule and agenda of the meeting of the President's Advisory Commission on Asian Americans and Pacific Islanders (Commission). The notice also describes the functions of the Commission. Notice of the meeting is required by section 10(a)(2) of the Federal Advisory Committee Act and intended to notify the public of its opportunity to attend.

DATES: May 6-7, 2013.

Time: 9:00-5:00 p.m. (May 6, 2013); 12:45 p.m.-5:00 p.m. (May 7, 3013) EDT.

ADDRESSES: The Melrose Hotel, 2430 Pennsylvania Avenue NW., Washington, DC 20037.

FOR FURTHER INFORMATION CONTACT: Shelly W. Coles, White House Initiative on Asian Americans and Pacific Islanders, 400 Maryland Avenue SW., Washington, DC 20202; telephone: (202) 453-7277, fax: 202-453-5632.

SUPPLEMENTARY INFORMATION: The President's Advisory Commission on Asian Americans and Pacific Islanders is established under Executive Order 13515, dated October 14, 2009 and subsequently continued and amended by Executive Order 13585. Per E.O. 13515, The Commission shall provide advice to the President, through the Secretary of Education and a senior official to be designated by the President, as Co-Chairs of the Initiative, on: (i) The development, monitoring, and coordination of executive branch efforts to improve the quality of life of AAPIs through increased participation in Federal programs in which such persons may be underserved; (ii) the compilation of research and data related to AAPI populations and subpopulations; (iii) the development, monitoring, and coordination of Federal efforts to improve the economic and community development of AAPI businesses; and (iv) strategies to increase public and private-sector collaboration, and community involvement in improving the health, education, environment, and well-being of AAPIs.

Agenda

The purpose of the meeting is to discuss and reflect upon the Commission's past work; review the work of the White House Initiative on Asian Americans and Pacific Islanders; and determine key strategies to help meet the Commission's charge as outlined in E.O. 13515.

Additional Information

Individuals of the public who would like to attend the meeting on May 6-7, 2013, of the President's Advisory Commission on Asian Americans and Pacific Islanders shall R.S.V.P. to Shelly Coles via email at shelly.coles@ed.gov no later than, May 2, 2013 at 3:00 p.m. EDT.

Individuals who will need accommodations for a disability in order to attend the meeting (e.g., interpreting services, assistive listening devices, or material in alternative format) should notify Shelly Coles at (202) 453-7277, no later than Monday, April 22, 2013. We will attempt to meet requests for accommodations after this date, but, cannot guarantee their availability. The meeting site is accessible to individuals with disabilities. Due to time constraints, there will not be a public comment period at this meeting, However, individuals wishing to provide comment(s) about the White House Initiative on Asian Americans and Pacific Islanders or the President's Advisory Commission on Asian Americans and Pacific Islanders may contact Shelly Coles via email at shelly.coles@ed.gov. Please include in the subject line, the wording, “Public Comment”.

Records are kept of all Commission proceedings and are available for public inspection at the office of the White House Initiative on Asian Americans and Pacific Islanders, U.S. Department of Education, 400 Maryland Avenue SW., Washington, DC 20202, Monday-Friday during the hours of 8:30 a.m. to 5:00 p.m.

Electronic Access to this Document: You may view this document, as well as all other documents of this Department published in the Federal Register, in text or Adobe Portable Document Format (PDF) on the Internet at the following site: www.ed.gov/news/fedregister/index.html. To use PDF you must have Adobe Acrobat Reader, which is available free at this site. If you have questions about using PDF, call the U.S. Government Printing Office (GPO), toll free at 1-866-512-1800; or in the Washington, DC area at 202-512-0000.

Dated: April 19, 2013.
Martha Kanter,
Under Secretary, U.S. Department of Education.

[FR Doc. 2013-09712 Filed 4-24-13; 8:45 am]

BILLING CODE 4000-01-P